DEPARTMENT OF AGRICULTURE

Farm Service Agency

7 CFR Part 770

RIN 0560-AF43

Loans to Indian Tribes and Tribal Corporations; Correction

AGENCY: Farm Service Agency, USDA.

ACTION: Correction to final rule.

SUMMARY: This document contains corrections to the final rule which was published Tuesday, January 9, 2001 (66 FR 1563). The final rule revised and consolidated the Indian Tribal Land Acquisition Program (ITLAP) regulations.

DATE: Effective on September 14, 2001.

FOR FURTHER INFORMATION CONTACT: Craig Nehls, Branch Chief, Farm Loan Programs, Loan Servicing and Property Management Division, Farm Service Agency, USDA, 1400 Independence Avenue, SW., STOP 0523, Washington, DC 20250-0523, telephone (202) 720-1984, facsimile (202) 690-1196, electronic mail: Craig_Nehls@wdc.usda.gov.

Correction

Accordingly, in the final rule published January 9, 2001, (66 FR1563) make the following corrections in § 770.10:

§ 770.10 [Corrected]

On page 1569, in the second column, in paragraph (e)(3)(iv), in the second line, “(d)(4)” should read “(e)(4);” and in the fourth line, “(d)(3)” should read “(e)(3)” and paragraph (e) should be redesignated as paragraph (f).

Signed at Washington, DC, on September 6, 2001.
James R. Little,
Administrator, Farm Service Agency.

[FR Doc. 01-23061 Filed 9-13-01; 8:45 am]

BILLING CODE 3410-05-P